DEPARTMENT OF TRANSPORTATION

Federal Aviation Administration

Public Notice for a Change in Use of Aeronautical Property at Pease International Tradeport, Portsmouth, NH

AGENCY: Federal Aviation Administration (FAA), DOT.

ACTION: Request for public comments.

SUMMARY: The FAA is requesting public comment on the Pease Development Authority's request to sell a portion (11.57 acres) of Airport property from aeronautical use to non-aeronautical use. The property is located at 40 Oak Avenue, Portsmouth, New Hampshire and is currently used for revenue production. Upon disposition the property will be used for construction of a Federal building by the General Services Administration. The property was acquired under the Surplus Property Act under a Deed from the United States Air Force dated January 28, 2004.

The disposition of proceeds from the disposal of airport property will be in accordance with FAA's Policy and Procedures Concerning the Use of Airport Revenue, published in the Federal Register on February 16, 1999.

DATES: Comments must be received on or before January 4, 2006.

ADDRESSES: Documents are available for review by appointment by contacting Ms. Lynn Hinchee, General Counsel, Pease Development Authority, at 360 Corporate Drive, Portsmouth, New Hampshire 03801, Telephone 603-766-9286 and by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts, on November 21, 2005.
LaVerne F. Reid,
Manager, Airports Division, New England Region.

[FR Doc. 05-23632 Filed 12-2-05; 8:45 am]

BILLING CODE 4910-13-M